DEPARTMENT OF THE INTERIOR

Bureau of Land Management

Notification of Public Hearing Regarding Surface Mining Control and Reclamation Act (SMCRA), Section 601, Petition To Declare Federal Lands Unsuitable for Non-coal Mining in Plumas County, CA

AGENCY: Bureau of Land Management, Department of the Interior, State Office, Sacramento, California.

SUMMARY: Notice is hereby given, in accordance with Section 601 of the Surface Mining Control and Reclamation Act (SMCRA), the Bureau of Land Management will be holding a public hearing to gather comments on the suitability for noncoal mining of public land in eastern Genesee Valley. Specifically, 2.9 square miles of federal land administered by the U. S. Forest Service located within Sections 25 and 36, Township 26 N, Range 11 E, and Sections 30 and 31, Township 26 N, Range 12 E, MDB&M, Plumas County, California.

The hearing will be held in the Taylorsville Grange Hall, located at 4322 Main Street, Taylorsville, Plumas County, California, on Wednesday, July 25, 2001, from 7 to 8:30 p.m. All public comments will be recorded and the transcript will become part of the record. Comments provided by members of the general public will be reviewed and considered in rendering a final determination of this noncoal mining land suitability petition.

In addition, an informational meeting will also be held two weeks prior to the public hearings at the Taylorsville Grange Hall, on Wednesday, July 11, 2001, from 5 to 8 p.m. The purpose of this meeting is to provide the public with information regarding important details of the SMCRA, Section 601 petition process and relevant facts and issues pertaining to the case.

FOR FURTHER INFORMATION CONTACT:

Modesto Tamondong (Mining Engineer) US DOI BLM-CASO (916) 978-4372

David Lawler (Geologist) US DOI BLM-CASO (916) 978-4365

Lee Ann Taylor (Public Affairs Officer) USDA USFS-PNF (530) 283-7850

Dated: June 11, 2001.
Sean Hagerty,
Acting Deputy State Director—Minerals.

[FR Doc. 01-16217 Filed 6-27-01; 8:45 am]

BILLING CODE 4310-40-P